DEPARTMENT OF THE INTERIOR

Bureau of Ocean Energy Management

[Docket No. BOEM-2016-0051; MMAA104000]

Potential Commercial Leasing for Wind Power on the Outer Continental Shelf (OCS) Offshore California—Request for Interest

AGENCY: Bureau of Ocean Energy Management (BOEM), Interior.

ACTION: Public notice of an unsolicited request for a commercial OCS wind lease, request for interest (RFI), and request for public comment.

SUMMARY: The purpose of this public notice is to: (1) Describe the unsolicited proposal submitted to BOEM by Trident Winds, LLC (Trident Winds) to acquire an OCS commercial wind lease; (2) solicit submissions of indications of interest in acquiring a commercial lease for wind energy development on the OCS offshore California in the area described in this notice; and (3) solicit public input regarding the area described in this notice, the potential environmental consequences associated with wind energy development in the area, and existing and planned multiple uses of the area.

On January 14, 2016, BOEM received an unsolicited request from Trident Winds for a commercial wind lease on the OCS. Trident Winds' proposed project would consist of a utility-scale floating wind energy facility offshore Morro Bay, California that would interconnect with the California electrical grid at the existing Morro Bay Power Plant. The project would be located, at its closest point, approximately 15 nautical miles (nmi) offshore Point Piedras Blancas in water depths of approximately 2,900 feet. Additional information on Trident Winds' unsolicited lease request can be viewed at http://www.boem.gov/California/.

This RFI is published pursuant to subsection 8(p)(3) of the OCS Lands Act, 43 U.S.C. 1337(p)(3), and BOEM's implementing regulations at 30 CFR part 585. Subsection 8(p)(3) of the OCS Lands Act requires that OCS renewable energy leases, easements, and rights-of-way be issued “on a competitive basis unless the Secretary [of the Interior] determines after public notice of a proposed lease, easement, or right-of-way that there is no competitive interest.” This RFI provides public notice for the area requested by Trident Winds (the Proposed Lease Area) that is described below in the section “Description of the Proposed Lease Area,” and invites the submission of indications of interest in acquiring a commercial wind lease within the Proposed Lease Area. Parties wishing to indicate competitive interest in the Proposed Lease Area should submit detailed and specific information as described in the section entitled “Required Indication of Interest Information.” BOEM will consider the responses to this public notice to determine whether competitive interest exists in the Proposed Lease Area.

This announcement also requests that interested and affected parties comment and provide information about site conditions and any existing or planned multiple uses within the Proposed Lease Area that may be relevant to the proposed project or its potential impacts.

DATES: If you are submitting an indication of interest in acquiring a commercial wind lease for or within the Proposed Lease Area, your submission must be sent by mail, postmarked no later than September 19, 2016 for your submission to be considered. BOEM requests comments or other submissions of information by this same date.

SUBMISSION PROCEDURES: If you are submitting an indication of interest in acquiring a commercial wind lease, please submit it by mail to the following address: Bureau of Ocean Energy Management, Pacific Region Office of Strategic Resources, 760 Paseo Camarillo, Suite 102 (CM 102), Camarillo, California 93010. Submissions must be postmarked by September 19, 2016 to be considered by BOEM for the purposes of determining competitive interest. Your complete submission must be provided to BOEM in both paper and electronic formats. BOEM considers an Adobe PDF file stored on a compact disc (CD) to be an acceptable format for submitting an electronic copy. BOEM will list the parties that submit indications of interest and the OCS blocks proposed for development on the BOEM Web site after the 30-day comment period has closed.

If you are submitting comments or other information concerning the Proposed Lease Area, you may use either of the following two methods:

1. Federal eRulemaking Portal: http://www.regulations.gov. In the entry entitled “Enter Keyword or ID,” enter BOEM-2016-0051 and then click “search.” Follow the instructions to submit public comments and view supporting and related materials available for this notice.

2. U.S. Postal Service or other delivery service. Send your comments and information to the following address: Bureau of Ocean Energy Management, Pacific Region Office of Strategic Resources, 760 Paseo Camarillo, Suite 102 (CM 102), Camarillo, California 93010.

All responses will be reported on http://www.regulations.gov. If you wish to protect the confidentiality of your submissions or comments, please identify and clearly label privileged or confidential information “Contains Confidential Information.” Treatment of confidential information is addressed in the section of this notice entitled, “Privileged or Confidential Information.” BOEM will post all comments on http://www.regulations.gov, unless it is labeled in the manner described above. Information that is not labeled as privileged or confidential will be regarded by BOEM as suitable for public release.

FOR FURTHER INFORMATION CONTACT: Ms. Jean Thurston, Renewable Energy Specialist, BOEM, Pacific Region Office of Strategic Resources, 760 Paseo Camarillo, Suite 102 (CM 102), Camarillo, California 93010, Phone: (805) 384-6303.

SUPPLEMENTARY INFORMATION:

Purpose of This Request for Interest

Responses to this public notice will allow BOEM to determine, pursuant to 30 CFR 585.231, whether or not there is competitive interest in acquiring an OCS commercial wind lease in the Proposed Lease Area. In addition, this notice provides an opportunity for the public to comment on the Proposed Lease Area, the proposed project, and any potential impacts wind energy development in the Proposed Lease Area may have. BOEM may use comments received to further identify and refine the area being considered for wind energy development, and inform future environmental analyses related to the project.

Background

Trident Winds Proposal

Trident Winds' proposed Morro Bay Offshore Project would consist of a utility-scale floating wind energy facility offshore Morro Bay, California. The proposed project would generate an anticipated 765 megawatts (MW) of electricity from approximately 100 floating units, each equipped with up to an 8-MW wind turbine generator and connected by inter-unit electrical cabling, with a single transmission cable exporting electricity to the mainland. Trident Winds proposes to interconnect the project with the California electrical grid at the existing Morro Bay Power Plant. The proposal also includes plans to increase the project to 1,000 MW at a later date if an agreement is reached between the developer and the State of California to purchase the additional power produced and additional transmission power is available. At its closest point, the project would be located approximately 15 nmi offshore Point Piedras Blancas in water depths of approximately 2,900 feet. The Monterey Bay National Marine Sanctuary is located adjacent to the northeast boundary of the proposed project. Additional information on Trident Wind's unsolicited lease request can be viewed at http://www.boem.gov/California/.

California Renewable Energy Portfolio Standards

In October 2015, the State of California passed the Clean Energy and Pollution Reduction Act of 2015 (SB-350), requiring the amount of electricity generated and sold to retail customers per year from eligible renewable energy resources be increased to 50 percent by December 31, 2030. New and modified electrical transmission facilities may be necessary to achieve the SB-350 goals. The proposed Trident Winds project may provide additional renewable energy capacity for use by the State of California to achieve its SB-350 goals.

Determination of Competitive Interest and the Leasing Process

After the publication of this notice, BOEM will evaluate indications of interest in acquiring a commercial wind lease in the Proposed Lease Area. At the conclusion of the comment period for this public notice, BOEM will review the submissions received and undertake a completeness review for each of those submissions and a qualifications review for each of the nominating entities. BOEM will then make a determination as to whether competitive interest exists.

If, in response to this notice, BOEM receives one or more indications of interest in acquiring a commercial wind lease from qualified entities that wish to compete for the Proposed Lease Area, BOEM may decide to move forward with the lease issuance process using competitive procedures pursuant to 30 CFR 585.211-225. If BOEM receives no competing indications of interest from qualified companies, BOEM may decide to move forward with the lease issuance process using the noncompetitive procedures contained in 30 CFR 585.231-232.

Should BOEM decide to proceed with issuing a lease in the Proposed Lease Area, whether competitively or noncompetitively, it will comply with all applicable requirements and provide the public with additional opportunities to provide input pursuant to 30 CFR part 585 and other applicable laws, such as the National Environmental Policy Act (NEPA). BOEM will also coordinate and consult, as appropriate, with relevant Federal agencies, affected tribes, affected state agencies, and affected local governments during the lease development and issuance process.

Description of the Proposed Lease Area

The Proposed Lease Area is located off the central coast of California, beginning approximately 15 nmi west of Point Piedras Blancas. The area extends approximately 21 nmi northwest to southeast, with a maximum width of approximately 6 nmi. The entire area is approximately 106 square miles (67,963 acres) and consists of 5 OCS blocks and 17 partial OCS blocks (191 sub blocks) (Table 1).

Table 1—List of OCS Blocks Included in the Request for Interest
Protraction name | Protraction number | Block number | Sub block
San Luis Obispo | NI10-03 | 6253 | P.
San Luis Obispo | NI10-03 | 6254 | A,B,C,D,E,F,G,H,I,J,K,L,M,N,O,P.
San Luis Obispo | NI10-03 | 6255 | E,I,M.
San Luis Obispo | NI10-03 | 6303 | D,H,L,P.
San Luis Obispo | NI10-03 | 6304 | A,B,C,D,E,F,G,H,I,J,K,L,M,N,O,P.
San Luis Obispo | NI10-03 | 6305 | A,E,I,M.
San Luis Obispo | NI10-03 | 6353 | C,D,G,H,K,L,O,P.
San Luis Obispo | NI10-03 | 6354 | A,B,C,D,E,F,G,H,I,J,K,L,M,N,O,P.
San Luis Obispo | NI10-03 | 6355 | A,B,E,F,I,J,M,N.
San Luis Obispo | NI10-03 | 6403 | C,D,G,H,K,L.
San Luis Obispo | NI10-03 | 6404 | A,B,C,D,E,F,G,H,I,J,K,L,M,N,O,P.
San Luis Obispo | NI10-03 | 6405 | A,B,E,F,G,I,J,K,L,M,N,O,P.
San Luis Obispo | NI10-03 | 6406 | M.
San Luis Obispo | NI10-03 | 6454 | D.
San Luis Obispo | NI10-03 | 6455 | A,B,C,D,E,F,G,H,L.
San Luis Obispo | NI10-03 | 6456 | A,B,E,F,G,H,I,J,K,L,M,N,O,P.
San Luis Obispo | NI10-03 | 6457 | E,F,G,H,I,J,K,L,M,N,O,P.
San Luis Obispo | NI10-03 | 6458 | E,F,I,J,M,N.
San Luis Obispo | NI10-03 | 6506 | C,D.
San Luis Obispo | NI10-03 | 6507 | A,B,C,D,E,F,G,H,K,L,P.
San Luis Obispo | NI10-03 | 6508 | A,B,C,D,E,F,G,H,I,J,K,L,M,N,O,P.
San Luis Obispo | NI10-03 | 6558 | A,B,C,D,E,F,G,H.

The boundary of the Proposed Lease Area follows the points listed in Table 2 in clockwise order. Coordinates are provided in UTM meters (UTM Zone 10N, NAD 83) and latitude/longitude decimal degrees (NAD83).

Table 2—List of Boundary Points Included in the Request for Interest
Point number | UTM (Easting) | UTM (Northing) | Latitude | Longitude
1 | 610400 | 3955200 | 35.7346059 | −121.7791773
2 | 615200 | 3955200 | 35.73405568 | −121.7261096
3 | 615200 | 3954000 | 35.72323874 | −121.7262819
4 | 616400 | 3954000 | 35.72309758 | −121.7130169
5 | 616400 | 3945600 | 35.64737882 | −121.7142327
6 | 617600 | 3945600 | 35.6472366 | −121.7009804
7 | 617600 | 3939600 | 35.59315144 | −121.7018549
8 | 618800 | 3939600 | 35.59300805 | −121.6886116
9 | 618800 | 3938400 | 35.58219101 | −121.688788
10 | 620000 | 3938400 | 35.58204622 | −121.6755466
11 | 620000 | 3937200 | 35.57122922 | −121.6757246
12 | 621200 | 3937200 | 35.57108303 | −121.6624851
13 | 621200 | 3936000 | 35.56026607 | −121.6626649
14 | 622400 | 3936000 | 35.56011849 | −121.6494272
15 | 622400 | 3934800 | 35.54930157 | −121.6496087
16 | 632000 | 3934800 | 35.54806908 | −121.5437251
17 | 632000 | 3931200 | 35.51561966 | −121.5443115
18 | 634400 | 3931200 | 35.5152974 | −121.5178522
19 | 634400 | 3924000 | 35.45039878 | −121.5190434
20 | 629600 | 3924000 | 35.45103598 | −121.5719198
21 | 629600 | 3926400 | 35.47266944 | −121.5715373
22 | 628400 | 3926400 | 35.47282524 | −121.5847602
23 | 628400 | 3927600 | 35.48364201 | −121.5845706
24 | 627200 | 3927600 | 35.48379642 | −121.5977953
25 | 627200 | 3928800 | 35.49461323 | −121.5976074
26 | 624800 | 3928800 | 35.49491784 | −121.6240607
27 | 624800 | 3930000 | 35.50573474 | −121.6238762
28 | 622400 | 3930000 | 35.50603368 | −121.6503335
29 | 622400 | 3931200 | 35.51685068 | −121.6501524
30 | 620000 | 3931200 | 35.51714393 | −121.6766137
31 | 620000 | 3932400 | 35.52796103 | −121.676436
32 | 618800 | 3932400 | 35.52810553 | −121.6896686
33 | 618800 | 3933600 | 35.53892267 | −121.6894926
34 | 615200 | 3933600 | 35.53934765 | −121.7291961
35 | 615200 | 3934800 | 35.55016493 | −121.7290254
36 | 614000 | 3934800 | 35.55030374 | −121.7422619
37 | 614000 | 3936000 | 35.56112106 | −121.7420929
38 | 610400 | 3936000 | 35.56152894 | −121.7818081
39 | 610400 | 3937200 | 35.57234641 | −121.7816443
40 | 608000 | 3937200 | 35.57261116 | −121.8081251
41 | 608000 | 3945600 | 35.64833356 | −121.8070013
42 | 609200 | 3945600 | 35.64820154 | −121.7937484
43 | 609200 | 3951600 | 35.70228811 | -121.7929341

Map of the Proposed Lease Area

A map of the Proposed Lease Area can be found at: http://www.boem.gov/California/. A large-scale map of the Proposed Lease Area showing boundaries of the area with the numbered blocks is available from BOEM at the following address: Bureau of Ocean Energy Management, Pacific Region Office of Strategic Resources, 760 Paseo Camarillo, Suite 102, Second Floor, Camarillo, California 93010.

Department of Defense Activities and Potential Stipulations

The Department of Defense (DOD) conducts offshore testing, training, and operations on the OCS and may request that BOEM condition any activities that might take place in the Proposed Lease Area. BOEM will consult with DOD regarding potential issues concerning offshore testing, training, and operational activities in an effort to try to minimize any potential impacts, and may develop stipulations, as appropriate, to mitigate the effects of renewable energy activities on any DOD activities in and around the Proposed Lease Area.

Required Indication of Interest Information

If you intend to submit an indication of interest in acquiring a commercial wind lease within the Proposed Lease Area, you must provide the following:

(1) The BOEM Protraction name, number, and specific whole or partial OCS blocks within the Proposed Lease Area that are of interest for commercial wind leasing, including any required buffer area(s). If your area(s) includes partial blocks, include the sub-block letter (A-P). Additionally, you should submit a shapefile or geodatabase of the project area compatible with ArcGIS 10.3 and in either NAD 83 unprojected, or NAD 83 UTM Zone 10 N. Any request for a commercial wind lease located outside of the Proposed Lease Area should be submitted separately pursuant to 30 CFR 585.230;

(2) A general description of your objectives and the facilities that you would use to achieve those objectives;

(3) A general schedule of proposed activities, including those leading to the development of a commercial wind energy project within the Proposed Lease Area;

(4) Available and pertinent data and information concerning renewable energy resources and environmental conditions in the area that you wish to lease, including energy and resource data and information used to evaluate the area of interest. Where applicable, spatial information should be submitted in a format compatible with ArcGIS 10.3 in either NAD 83 unprojected, or NAD 83 UTM Zone 10 N;

(5) Documentation demonstrating that you are legally qualified to hold a lease as set forth in 30 CFR 585.106-107. Legal qualification documents will be placed in an official file that may be made available for public review. If you wish that any part of your legal qualification documentation be kept confidential, clearly identify what should be kept confidential, and submit it under separate cover (see “Protection of Privileged or Confidential Information Section,” below); and

(6) Documentation demonstrating that you are technically and financially capable of constructing, operating, maintaining, and decommissioning the facilities described in paragraph (2) above. Guidance regarding the documentation that could be used to demonstrate your technical and financial qualifications can be found at: http://www.boem.gov/Renewable-Energy-Program/Regulatory-Information/QualificationGuidelines-pdf.aspx. If you wish for any part of your technical and financial qualification documentation to be kept confidential, clearly identify what should be kept confidential, and submit it under separate cover (see “Protection of Privileged or Confidential Information,” below).

It is critical that you provide a complete submission of interest so that BOEM may consider your submission in a timely manner. If BOEM reviews your submission and determines that it is incomplete, BOEM will inform you of this determination in writing and describe the information that BOEM needs from you in order for BOEM to deem your submission complete. You will be given 15 business days from the date of the letter to provide any information that BOEM has deemed missing from your original submission. If you do not meet this deadline, or if BOEM determines that your second submission is also insufficient, BOEM may deem your submission invalid. In such a case, BOEM will not consider your submission.

Requested Information From Interested or Affected Parties

BOEM is also requesting specific and detailed comments from the public and interested or affected parties regarding the following:

(1) Geological and geophysical conditions (including seabed conditions and shallow hazards) in the Proposed Lease Area;

(2) Historic properties and archaeological resources potentially affected by the installation of wind facilities in the Proposed Lease Area;

(3) Other uses of the Proposed Lease Area, including, but not limited to, navigation (including commercial and recreational vessel usage); commercial and recreational fishing; recreational activities (e.g., dive sites, surfing, wildlife viewing, and scenic areas); Department of Defense activities; aviation; other energy-related development activities; scientific research; and utilities and communications infrastructure (e.g., undersea energy and/or telecommunications cables);

(4) Other relevant environmental information relating to the Proposed Lease Area, including but not limited to: national marine sanctuary resources, protected species and habitats, marine mammals, sea turtles, birds, fish, zooplankton, and cultural resources; and

(5) Socioeconomic information relating to the Proposed Lease Area, such as demographics and employment or information relevant to environmental justice considerations.

Protection of Privileged or Confidential Information

Freedom of Information Act

BOEM will protect privileged or confidential information you submit when required by the Freedom of Information Act (FOIA). Exemption 4 of FOIA applies to trade secrets and commercial or financial information that is privileged or confidential. If you wish to protect the confidentiality of such information, please identify and clearly label it with “Contains Confidential Information” and request BOEM treat it as confidential. BOEM will not disclose such information if it qualifies for exemption from disclosure under FOIA. Information not labeled as privileged or confidential will be regarded by BOEM as suitable for public release.

BOEM will not treat as confidential any aggregate summaries of privileged or confidential information or comments not containing such information. Additionally, BOEM will not treat as confidential (1) the legal title of any entity submitting an indication of interest (for example, the name of your company), or (2) the list of whole or partial blocks that you are indicating an interest in leasing.

Section 304 of the National Historic Preservation Act (16 U.S.C. 470w-3(a))

BOEM is required to withhold the location, character, or ownership of historic resources if it determines disclosure may, among other things, risk harm to the historic resources or impede the use of a traditional religious site by practitioners. Those providing information eligible for protection under section 304 of NHPA should designate such information as confidential.

Dated: July 27, 2016.
Abigail Ross Hopper,
Director, Bureau of Ocean Energy Management.

[FR Doc. 2016-19349 Filed 8-17-16; 8:45 am]

BILLING CODE 4310-MR-P